DEPARTMENT OF EDUCATION

[Docket No.: ED-2019-ICCD-0112]

Agency Information Collection Activities; Comment Request; Presidential Cybersecurity Education Award

AGENCY: Office of Planning, Evaluation and Policy Development (OPEPD), Department of Education (ED).

ACTION: Notice.

SUMMARY: In accordance with the Paperwork Reduction Act of 1995, ED is requesting the Office of Management and Budget (OMB) to conduct an emergency review of a new information collection.

DATES: The Department is requesting OMB approval of the emergency information collection by September 25, 2019. Interested persons are invited to submit comments to the emergency information collection by that date. A regular clearance process is also hereby being initiated. Interested persons are invited to submit comments on or before November 12, 2019.

ADDRESSES: To access and review all the documents related to the information collection listed in this notice, please use http://www.regulations.gov by searching the Docket ID number ED-2019-ICCD-0112. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Jean Morrow, 202-453-7233, or via email at CyberAwards@ed.gov.

SUPPLEMENTARY INFORMATION: ED, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. ED is especially interested in public comment addressing the following issues: (1) Is this collection necessary to the proper functions of ED; (2) will this information be processed and used in a timely manner; (3) is the estimate of burden accurate; (4) how might the Department enhance the quality, utility, and clarity of the information to be collected; and (5) how might ED minimize the burden of this collection on the respondents, including through the use of information technology. Please note that written comments received in response to this notice will be considered public records.

Title of Collection: Presidential Cybersecurity Education Award.

OMB Control Number: 1875-NEW.

Type of Review: A new information collection.

Respondents/Affected Public: Individuals or Households.

Total Estimated Number of Annual Responses: 120.

Total Estimated Number of Annual Burden Hours: 120.

Abstract: Pursuant to Executive Order 13870 of May 2, 2019, as published in the Federal Register at 84 FR 20,523-20,527 (May 9, 2019) (Executive Order 13870), ED, in consultation with the Deputy Assistant to the President for Homeland Security and Counterterrorism and the National Science Foundation, has developed and implemented, consistent with applicable law, an annual Presidential Cybersecurity Education Award to be presented to one elementary and one secondary school educator per year who best instill skills, knowledge, and passion with respect to cybersecurity and cybersecurity-related subjects. ED will solicit nominations for the two individual educators who will be awarded this Presidential Cybersecurity Education Award.

Additional Information: An emergency clearance approval for the use of the system is described below due to the following conditions: The program office anticipates announcing this award on October 1, 2019. In recognition of National Cybersecurity Awareness Month, the announcement of the Award will be on or around October 1, 2019. However, the Department must wait until the Systems of Records Notice (SORN) is published in the Federal Register to accept nominations. The Department anticipates that the SORN should be published by December 2019 (or sooner), at which point nominations can be submitted to the Department. The nomination period will likely close January 31, 2020. By announcing in October, this allows nominators more time to put together the information required to submit nominations. The Department will prompt nominators to refer to the website for updated details on when nominations can be submitted to the Department. Between February and April 2020, the Department will conduct an internal review of the nominations, recommend one elementary and one secondary awardee to the Department of Education's Office of the Secretary, and awardees will be recognized during Teacher Appreciation Week in May 2020. This quick timeline will ensure meeting the President of the United States' Executive Order 13870 directive to make awards within one year of signage.

Dated: September 5, 2019.
Stephanie Valentine,
PRA Coordinator, Information Collection Clearance Program, Information Management Branch, Office of the Chief Information Officer.

[FR Doc. 2019-19523 Filed 9-9-19; 8:45 am]

BILLING CODE 4000-01-P